CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed data collection for the Social Innovation Fund (SIF) National Evaluation. Research questions for the evaluation are categorized into 5 major topic areas:

• Documenting SIF's outcomes for people served;

• Strengthening the evidence base;

• Expanding the reach of programs that work;

• Using intermediaries to strengthen the capacity of nonprofits to implement and expand programs; and

• Assessing SIF's influence on policy, funding and practice.

The evaluation seeks to understand whether and how the SIF has met its intended goals by assessing the extent to which: (1) Outcomes for those in need have improved; (2) the evidence base has been strengthened; (3) nonprofit capacity to implement and expand programs has increased; and, (4) SIF has influenced the use of evidence, the flow of capital and the scaling of promising program models within the public, philanthropic and nonprofit sectors. The evaluation will focus on the initial group of 11 intermediaries (grantees) and 138 community nonprofits (subgrantees) funded by the SIF in 2010. These intermediaries and their subgrantees will be providing information for the SIF National Evaluation.

Copies of the information collection request can be obtained by contacting the office listed in the addresses section of this notice.

DATES: Written comments must be submitted to the individual and office listed in the ADDRESSES section by July 23, 2012.

ADDRESSES: You may submit comments, identified by the title of the information collection activity, by any of the following methods:

(1) By mail sent to: Corporation for National and Community Service, Attention: Joscelyn Silsby, Project Director, SIF Evaluation, Office of Strategy and Strategic Initiatives, Corporation for National and Community Service, 1201 New York Avenue NW., Room 10906A Washington, DC, 20525.

(2) By hand delivery or by courier to the CNCS mailroom at Room 8100 at the mail address given in paragraph (1) above, between 9:00 a.m. and 4:00 p.m. Eastern Time, Monday through Friday, except Federal holidays.

(3) By fax to: (202) 606-3464 Attention: Joscelyn Silsby, Project Director, SIF Evaluation.

(4) Electronically through the CNCS email system: jsilsby@cns.gov. Individuals who use a telecommunications device for the deaf (TTY-TDD) may call 1-800-833-3722 between 8:00 a.m. and 8:00 p.m. Eastern Time, Monday through Friday.

FOR FURTHER INFORMATION CONTACT: Joscelyn Silsby (202-606-6772), or by email at jsilsby@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

During 2010, 11 intermediaries received SIF grants across the three priority areas. As of July 1, 2011, the 2010 intermediaries had funded 138 sub grantees in 31 states and the District of Columbia. These intermediaries and sub grantees will be providing the information for the SIF National Evaluation. Some of the information will be collected electronically and other information will be collected from intermediaries and subgrantees through telephone or in-person interviews.

The following data collection activities are planned for Year 2 of the evaluation:

• Intermediaries will provide data on the 138 sub grantees to document the changes in outputs and outcomes that occur as a result of SIF, beginning in the fall of 2012. This will be an annual data collection and will be conducted in 2013, 2014, and 2015. The information that will be collected includes characteristics of the populations served, the number of clients receiving each type of service, how new and underserved populations are reached, how people's lives have potentially changed with SIF-funded services, total funding available for subgrantee programs (including matching funds), cost of providing services (including direct costs and indirect costs), and number of full-time equivalent (FTE) staff members.

• Conduct brief telephone surveys with 138 sub grantees to obtain contextual and explanatory information (clarification of the data received from the annual program activity data collection). This data collection will occur in 2012, 2013, and 2015.

• Conduct in-depth discussions over the telephone with 11 grantees in 2013. These discussions will focus on the capacity strengthening needs of the sub grantees and how the grantees are or are planning to meet those needs as well as program expansion strategies the subgrantees are or will be implementing.

• Conduct in-person discussions with selected sub grantees to better understand the implementation of the SIF. This will result in development of 15 case studies. The first set of case studies will focus on understanding the types of strategies used by intermediaries and subgrantees to expand program reach and the subgrantee capacities that are needed or are in place to do this effectively.

Current Action

This is a new information collection request.

Type of Review: New.

Agency: Corporation for National and Community Service.

Title: Social Innovation Fund (SIF) National Evaluation.

OMB Number: TBD.

Agency Number: NA.

Affected Public: The affected public will be the intermediaries and the subgrantees who received SIF funding from CNCS, stakeholders (representatives from partnering organizations, volunteers, and perhaps local evaluators).

Total Respondents: 250.

Frequency: The annual program activity data collection instrument will be completed once annually during 2012, 2013, 2014, and 2015. Telephone surveys with subgrantees will occur in 2012, 2013, and 2015. Site visits and discussions will occur once in 2013 and 2015 with approximately 15 subgrantees (program director and staff), and stakeholders to develop case studies focused on program expansion strategies and capacity strengthening work.

Average Time per Response: Average response time of the 11 grantees to compile the data for each sub grantee for the annual program activity data collection instrument will be 3 hours per subgrantee. The follow-up survey with sub grantees will be 30 minutes; interviews with SIF intermediaries will take 1.5 hours; and the discussions with SIF Program directors and staff, and stakeholders for the case studies will be 1 hour per respondent.

Estimated Total Burden Hours: 589.5 hours.

Total Burden Cost (capital/startup): None.

Total Burden Cost (operating/maintenance): None.

Data collection activity | Respondents | Number of respondents | Frequency of response | Burden hours per Response | Total annual burden hours
Annual program activity data collection instrument | SIF intermediaries | 138 | 1 | 3.0 | 414
Follow-up telephone surveys | SIF subgrantees | 138 | 1 | 0.5 | 69
In-depth interviews | SIF intermediaries | 11 | 1 | 1.5 | 16.5
Case studies of 15 sub grantee programs | SIF Program director and staff, and stakeholders | 90 | 1 | 1 | 90
Total |  | 250 |  | 6.0 | 589.5

Comments submitted in response to this notice will be summarized and/or included in the request for Office of Management and Budget approval of the information collection request; they will also become a matter of public record.

Dated: May 16, 2012.
Marlene Zakai,
Deputy Chief of Staff, Management.

[FR Doc. 2012-12394 Filed 5-21-12; 8:45 am]

BILLING CODE 6050-$$-P